DEPARTMENT OF COMMERCE

National Oceanic and Atmospheric Administration

[I.D. 063000A]

Marine Mammals; File No. 373-1575

AGENCY: National Marine Fisheries Service (NMFS), National Oceanic and Atmospheric Administration (NOAA), Commerce.

ACTION: Receipt of application.

SUMMARY: Notice is hereby given that Point Reyes Bird Observatory (Dr. Sarah Allen, Principal Investigator), 4990 Shoreline Highway, Stinson Beach, CA 94970, applied in due form for a permit to take harbor seals (Phoca vitulina richardsi), northern elephant seals (Mirounga angustirostris), California sea lions (Zalophus californianus), and Steller sea lions (Eumetopias jubatus) for purposes of scientific research.

DATES: Written or telefaxed comments must be received on or before August 10, 2000.

ADDRESSES: The application and related documents are available for review upon written request or by appointment in the following office(s):

Permits and Documentation Division, Office of Protected Resources, NMFS, 1315 East-West Highway, Room 13130, Silver Spring, MD 20910 (301/713-2289);

Regional Administrator, Southwest Region, NMFS, 501 West Ocean Blvd., Suite 4200, Long Beach, CA 90802 (562/980-4001);and

Regional Administrator, Northwest Region, NMFS, 7600 Sand Point Way NE, BIN C15700, Bldg. 1, Seattle, WA 98115 (206/526-6150).

FOR FURTHER INFORMATION CONTACT: Simona Roberts or Ruth Johnson, 301/713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.) and the regulations governing the taking, importing, and exporting of endangered and threatened species (50 CFR 222-226).

The applicant seeks authorization to monitor and research all age, sex and reproductive classes of harbor seals and northern elephant seals along the Point Reyes National Seashore, and in the Gulf of the Farallones, San Francisco Bay, and Russian River, California. Proposed research takes of harbor seals would involve capturing, tagging, dye-marking, measuring, blood collecting, bacterial swabbing, scat collecting, and unintentional mortality. Proposed research takes of northern elephant seals would involve capturing, tagging, dye-marking, blood collecting, and bacterial swabbing. Unintentional harassment of California sea lions and Steller sea lions is also proposed.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: July 3, 2000.
Ann D. Terbush,
Chief, Permits and Documentation Division, Office of Protected Resources, National Marine Fisheries Service.

[FR Doc. 00-17510 Filed 7-10-00; 8:45 am]

BILLING CODE 3510-22-F